DEPARTMENT OF COMMERCE

National Oceanic and Atmospheric Administration

RIN 0648-XA599

Marine Mammals; File No. 16094

AGENCY: National Marine Fisheries Service (NMFS), National Oceanic and Atmospheric Administration (NOAA), Commerce.

ACTION: Notice; receipt of application.

SUMMARY: Notice is hereby given that the Alaska Department of Fish and Game, Juneau, AK, has applied in due form for a permit to conduct research on marine mammals.

DATES: Written, telefaxed, or e-mail comments must be received on or before August 29, 2011.

ADDRESSES: The application and related documents are available for review by selecting “Records Open for Public Comment” from the Features box on the Applications and Permits for Protected Species (APPS) home page, https://apps.nmfs.noaa.gov, and then selecting File No. 16094 from the list of available applications.

These documents are also available upon written request or by appointment in the following offices:

Permits, Conservation and Education Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-724.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Joselyd Garcia-Reyes, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to study harbor seals (Phoca vitulina) throughout their range in Alaska, including Southeast Alaska, Gulf of Alaska and Bering Sea. The overall objective is to provide a greater understanding of the proximate and ultimate factors that regulate their abundance, which is required to develop effective management and conservation strategies. Research activities and the maximum number of animals taken per year (n) per activity include: aerial surveys for population census and radio tracking (n = 180,000); incidental disturbance during capture activities (n = 7,000); ground surveys for photo-identification, counts and behavioral observations (n = 10,000); vessel approaches of animals equipped with telemetry equipment (n = 50); vessel surveys for radio tracking and incidental disturbance associated with approaching animals equipped with telemetry equipment (n = 7,000); and capture by entanglement in a net in the water or by hoop net or dip net on land (n = 350). Captured animals would be restrained (chemical or physical); weighed and measured; have biological samples collected (blood, milk (lactating females), blubber, muscle, skin, muscle, hair, mucus membrane swabs, stomach lavage, tooth and vibrissae); be administered deuterated water; have measurement of blubber via ultrasound; be marked with flipper identification tags; and have internal (PIT tags) or external scientific instruments attached. Tissue samples would be collected from subsistence harvested animals and other mortalities and some samples would be exported to Canada for analysis. The applicant requests authorization for incidental research-related mortalities (4 per year, not to exceed 10 over five years) and permission to humanely euthanize animals seriously injured during research (2 per year, not to exceed 5 over five years). The applicant also requests incidental harassment (5 per year) and accidental mortality (3 per year) of harbor porpoises (Phocoena phocoena) during seal capture activities.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 22, 2011.
P. Michael Payne,
Chief, Permits, Conservation and Education Division, Office of Protected Resources, National Marine Fisheries Service.

[FR Doc. 2011-19259 Filed 7-28-11; 8:45 am]

BILLING CODE 3510-22-P